DEPARTMENT OF ENERGY

Public Availability of Department of Energy FY 2013 Service Contract Inventory

AGENCY: Department of Energy.

ACTION: Notice of Public Availability of FY 2013 Service Contract Inventories.

SUMMARY: In accordance with Section 743 of Division C of the Consolidated Appropriations Act of 2010 (Pub. L. 111-117), the Department of Energy (DOE) is publishing this notice to advise the public on the availability of the FY 2013 Service Contract inventory. This inventory provides information on service contract actions over $25,000 that DOE completed in FY 2013. The information is organized by function to show how contracted resources are distributed throughout the agency. The inventory has been developed in accordance with guidance issued on November 5, 2010, by the Office of Management and Budget's Office of Federal Procurement Policy (OFPP). OFPP's guidance is available at http://www.whitehouse.gov/sites/default/files/omb/procurement/memo/service-contract-inventories-guidance-11052010.pdf. On December 19, 2011, OFPP issued additional guidance available at http://www.whitehouse.gov/sites/default/files/omb/procurement/memo/service-contract-inventory-guidance.pdf.

Except for minor changes to reporting deadlines, the guidance for preparing and analyzing FY 2013 inventories is essentially unchanged from OFPP's November 5, 2010, guidance for preparing the FY 2010 inventory. DOE has posted its inventory and a summary of the inventory at: http://energy.gov/management/downloads/service-contract-inventory.

FOR FURTHER INFORMATION CONTACT: Questions regarding the service contract inventory should be directed to Jeff Davis in the Strategic Programs Division at 202-287-1877 or jeff.davis@hq.doe.gov.

Dated: March 10, 2014.
Paul Bosco,
Director, Office of Acquisition and Project Management.

[FR Doc. 2014-07363 Filed 4-2-14; 8:45 am]

BILLING CODE 6450-01-P